DEPARTMENT OF HEALTH AND HUMAN SERVICES

Administration for Children and Families

Submission for OMB Review; State Plan for the Temporary Assistance for Needy Families (TANF) (OMB #: 0970-0145)

AGENCY: Office of Family Assistance, Administration for Children and Families, Department of Health and Human Services.

ACTION: Request for public comments.

SUMMARY: The Administration for Children and Families (ACF) is requesting a 3-year extension of the State Plan for the Temporary Assistance for Needy Families (TANF) (TANF State Plan; OMB #0970-0145, expiration 5/31/2022). There are no changes requested to this information collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The TANF State Plan is a mandatory statement submitted to the Secretary of the Department of Health and Human Services by the state. It consists of an outline specifying how the state's TANF program will be administered and operated and certain required certifications by the state's Chief Executive Officer. It is used to provide the public with information about the program.

Authority to require states to submit a state TANF plan is contained in section 402 of the Social Security Act, as amended by Public Law 104-193, the Personal Responsibility and Work Opportunity Reconciliation Act of 1996. States are required to submit new plans within a 27-month period.

Respondents: The 50 States of the United States, the District of Columbia, Guam, Puerto Rico, and the Virgin Islands.

Annual Burden Estimates
Instrument | Total number of respondents per year | Total number of annual responses per respondent | Average burden hours per response | Annual burden hours
Title Amendments | 18 | 1 | 3 | 54
State TANF plan | 18 | 1 | 30 | 540

Estimated Total Annual Burden Hours: 594.

Authority: Section 402 of the Social Security Act (42 U.S.C. 602), as amended by Pub. L. 104-193, the Personal Responsibility and Work Opportunity Reconciliation Act of 1996.

Mary B. Jones,
ACF/OPRE Certifying Officer.

[FR Doc. 2022-15332 Filed 7-18-22; 8:45 am]

BILLING CODE 4184-36-P